DEPARTMENT OF HOMELAND SECURITY

Office of the Secretary

[Docket No. DHS-2005-0033]

Notice of Meeting of Homeland Security Science and Technology Advisory Committee

AGENCY: Office of Studies and Analysis, Science and Technology Directorate, Department of Homeland Security.

ACTION: Notice.

SUMMARY: The Homeland Security Science and Technology Advisory Committee (HSSTAC) will meet in closed session.

DATES: May 18, 2005 and May 19, 2005.

ADDRESSES: If you wish to submit comments, you must do so by May 10, 2005. Comments must be identified by DHS-2005-0033 and may be submitted by one of the following methods:

• EPA Federal Partner EDOCKET Web site: http://www.epa.gov/feddocket. Follow instructions for submitting comments on the Web site.

• E-mail: HSSTAC@dhs.gov. Include docket number in the subject line of the message.

• Fax: 202-254-6177.

• Mail: Ms. Brenda Leckey, Office of Studies and Analysis, Science and Technology Directorate, Department of Homeland Security, Washington, DC 20528.

Docket: For access to the docket to read background documents or comments received, go to http://www.epa.gov/feddocket.

FOR FURTHER INFORMATION CONTACT: Brenda Leckey, Office of Studies and Analysis, Science and Technology Directorate, Department of Homeland Security, Washington, DC 20528, HSSTAC@dhs.gov, 202-254-5041.

SUPPLEMENTARY INFORMATION: Notice of this meeting is given under the Federal Advisory Committee Act (FACA), Public Law 92-463, as amended (5 U.S.C. App. 1 et seq.). The HSSTAC will meet for purposes of: (1) Observing, reviewing, and evaluating operational sites where Science and Technology products are apparent and where the systems engineering challenges are visible; (2) receiving a report from the Under Secretary for Science and Technology on how the prior year HSSTAC recommendations are being/will be implemented; (3) receiving a briefing on the Maritime Domain Awareness (MDA) Architecture; (4) touring, observing and evaluating DHS operational sites and facilities; and (5) receiving subcommittee reports.

Specifically, the HSSTAC will receive briefings and tours that will include information and demonstrations detailing law enforcement methods and techniques utilized to prevent terrorists from entering our nation and carrying out catastrophic events on our air transportation system. They will observe demonstrations of two databases used to identify potential repeat criminal offenders, non-intrusive inspection equipment, evolving “older technology” (non-integrated, handheld, etc.), and canine operations. The HSSTAC will review the results of its subcommittees' activities undertaken since the last quarterly meeting in February 2005, and discuss any proposed subcommittee recommendations. They will receive a report from the Under Secretary detailing proposed actions and actions being taken by the Directorate as a result of the recommendations contained in the HSSTAC annual report to the Under Secretary and Congress. Finally, they will receive a classified briefing on MDA, a “global” program that attempts to assess any potential threat posed by vessels, cargo, and people involved in the Maritime Environment, and will tour the Joint Harbor Operations Center.

In accordance with section 10(d) of the Federal Advisory Committee Act, Public Law 92-463, as amended (5 U.S.C. App. 1 et seq.) and pursuant to the authority delegated to him by the Secretary in DHS Management Directive 2300, the Under Secretary for Science and Technology has determined that this HSSTAC meeting will address: Classified matters of national security concern; internal administrative and personnel matters specific to committee and agency operations; matters pertaining to law enforcement activity; and matters the disclosure of which would be likely to frustrate significantly proposed agency actions. Accordingly, consistent with the provisions of 5 U.S.C. 552b(c)(1), (c)(2), (c)(7), and (c)(9)(B), the meeting will be closed to the public.

Dated: April 26, 2005.
Charles E. McQueary,
Under Secretary for Science and Technology, Science and Technology Directorate.

[FR Doc. 05-8699 Filed 4-29-05; 8:45 am]

BILLING CODE 4410-10-P